SOCIAL SECURITY ADMINISTRATION

[Program Announcement No. SSA-ORES-03-01]

Retirement Research Consortium Request for Applications (RFA)

AGENCY: Social Security Administration (SSA).

ACTION: Request for applications for a cooperative agreement to re-compete a Retirement Research Consortium (RRC).

SUMMARY: The American population is growing older, with profound long-term effects on Social Security and related programs. The Board of Trustees has found that Social Security is financially unsustainable over the long-term at present payroll tax and scheduled benefit levels. The Social Security Administration (SSA) is committed, through education and research efforts, to support reforms to ensure sustainable solvency and more responsive programs.

As authorized under section 1110 of the Social Security Act, SSA announces the solicitation of applications for a cooperative agreement to create a Retirement Research Consortium to help inform the public and policymakers about Social Security issues. Initially, the Consortium will be composed of one or more Centers. The Centers will have a combined annual budget of up to $5 million a year. SSA expects to fund the Centers for a period of 5 years, contingent on an annual review process and continued availability of funds.

Purpose

This announcement seeks applications in support of the RRC that will continue to serve as a national resource fostering high quality research, communication, and education. The Consortium's program purpose is to benefit the public through three tasks:

(1) Research, evaluation, and data development. The RRC will be expected to plan, initiate, and maintain a research program of high caliber. While Consortium research should broadly cover retirement and Social Security program issues, there will be special emphasis on system reform and program solvency. A portion of the research effort can focus on the development of research data sources and facilitating the use of Social Security Administrative data for retirement research purposes under secure conditions.

(2) Dissemination. The RRC will disseminate policy research findings using a variety of mediums to inform the academic community, policymakers, and the public.

(3) Training and education. The RRC will train and provide funding support for graduate students and postgraduates to conduct research on retirement policy.

DATES: The closing date for submitting applications under this announcement is July 15, 2003.

FOR FURTHER INFORMATION CONTACT: The application kit is available at www.ssa.gov/oag/. To request an application kit for those without internet access, and for nonprogrammatic information regarding the announcement or application package contact: David Allshouse, Grants Management Officer, SSA, Office of Acquisition and Grants, Grants Management Team, 1-E-4 Gwynn Oak Building, 1710 Gwynn Oak Avenue, Baltimore, Maryland 21207-5279. The fax number is (410) 966-9310. The telephone number is (410) 965-9262 (e-mail: dave.allshouse@ssa.gov).

For information on the program content of the announcement/application, contact: John W. R. Phillips, Division of Policy Evaluation, ORES, SSA, 500 E St., SW., Rm 936, Washington, DC 20254. The fax number is (202) 358-6187. The telephone number is (202) 358-6321 (e-mail: john.phillips@ssa.gov).

Table of Contents

Part I—Supplementary Information

A. Eligible Applicants

B. Type of Award

C. Availability and Duration of Funding

D. Letter of Intent

Part II—Establishment of a Research Consortium—Responsibilities of the Center and the Federal Government

A. Center Responsibilities

a. Priority Research Areas (PRA)

1. Social Security and Retirement

2. Macroeconomic Analyses of Social Security

3. Wealth and Retirement Income

4. Program Interactions

5. International Research

6. Demographic Research

b. Tasks

1. Research, Evaluation, and Data Development

2. Dissemination

3. Training and Education

B. Cooperative Agreement Responsibilities

1. Center Responsibilities

2. SSA Responsibilities

3. Joint Responsibilities

C. Special Requirements

Part III—Application Preparation and Evaluation Criteria

A. Content and Organization of Technical Application

B. Review Process and Funding

C. Selection Process and Evaluation Criteria

Part IV—Application Forms, Completion and Submission

A. Availability of Application Forms

B. Components of a Complete Application

C. Application Submission

D. Notification

Part I—Supplementary Information

A. Eligible Applicants

SSA seeks applications from domestic institutions.

No cooperative agreement funds may be paid as profit to any cooperative agreement recipient. Profit is considered as any amount in excess of the allowable costs of the award recipient.

In accordance with an amendment to the Lobbying Disclosure Act, popularly known as the Simpson-Craig Amendment, those entities organized under section 501(c)4 of the Internal Revenue Code that engage in lobbying are prohibited from receiving Federal cooperative agreement awards.

B. Type of Award

All awards made under this program will be made in the form of cooperative agreements. A cooperative agreement, as distinct from a grant, anticipates substantial involvement between SSA and the awardee during the performance of the project. A comprehensive annual review process will allow SSA to evaluate, recommend changes, and approve each Center's activities. This involvement may include collaboration or participation by SSA in the activities of the Centers as determined at the time of award. The terms of award are in addition to, not in lieu of, otherwise applicable guidelines and procedures.

C. Availability and Duration of Funding

1. Up to $5 million will be available to fund the initial 12-month budget period of a proposed five-year cooperative agreement(s) pursuant to the announcement. Up to $250,000 of the available $5 million in funds will be set aside for collaborative research projects with SSA staff (see Part II A.b.1). Further, the Center budgets should include $20,000 in provisional funds for Quick Turnaround projects (see Part II B.1).

2. Applicants must include separate budget estimates for each of the five years.

3. The amount of funds available for the cooperative agreement in future years has not been established. Legislative support for continued funding of the Consortium cannot be guaranteed and funding is subject to future appropriations and budgetary approval. SSA expects, however, that the Consortium will be supported during future fiscal years at an annual level of up to $5 million.

4. Nothing in this announcement precludes the possibility that the annual funds will be divided disproportionately between the Centers. However, each Center should prepare a five-year proposal with a maximum budget of $12.5 million.

5. Additional funds may become available from SSA or other Federal agencies in support of Consortium projects.

6. Initial awards, pursuant to this announcement, will be made on or about September 15, 2003.

7. SSA will not provide a Center's entire funding. Recipients of an SSA cooperative agreement are required to contribute a non-Federal match of at least 5 percent toward the total approved cost of each Center. The total approved cost of the project is the sum of the Federal share (maximum of 95 percent) and the non-Federal share (minimum of 5 percent). The non-Federal share may be cash or in-kind (property or services) contributions.

Although two awards are anticipated, nothing in this announcement restricts SSA's ability to make more (or less) than two awards, to make an award of lesser amount, or to add additional Centers to the RRC in the future. Further, SSA is not required to fund all proposed Consortium activities in any year. SSA will review all proposed activities annually and award up to $2.5 million per Center per year.

D. Letter of Intent

Prospective applicants are asked to submit by June 2, 2003, a letter of intent that includes (1) this program announcement number and title; (2) a brief description of the proposed Center; (3) the name, postal and e-mail addresses, and the telephone and fax numbers of the Center Director; and (4) the identities of the key personnel and participating institutions. The letter of intent is not required, is not binding, and does not enter into the review process of a subsequent application. The sole purpose of the letter of intent is to allow SSA staff to estimate the potential review workload and avoid conflicts of interest in the review. The letter of intent should be sent to: RRC Letter of Intent, Division of Policy Evaluation, Office of Research, Evaluation and Statistics, Social Security Administration, 500 E St., SW., ITC Room 936, Washington, DC 20254-0001.

Part II—Establishment of a Research Consortium—Responsibilities of the Center and the Federal Government

A. Center Responsibilities

a. Priority Research Areas (PRAs)

The successful applicant shall develop and conduct a research and evaluation program that also appropriately balances training and dissemination activities directed toward understanding retirement policy. SSA has identified six priority research areas within the realm of retirement income policy on which applicants should focus and applications will be scored. Reviewers will score applications that feature high quality research projects addressing solvency and reform across the priority areas favorably. The priority research areas are:

1. Social Security and Retirement: This area focuses on how Social Security's programs influence the nature and timing of retirement and the claiming of benefits. It also includes how changes in Social Security program rules affect Trust Fund solvency. Examples of research topics for this area include the labor supply and Trust Fund implications of changes in the Social Security retirement ages or implementation of Personal Accounts.

2. Macroeconomic Analyses of Social Security: This area covers the macroeconomic and financial effects of Social Security and changes in policy on national saving, investment, and economic growth. It includes, but is not limited to, the intertemporal effects on capital formation, retirement savings, and the unified budget.

3. Wealth and Retirement Income: This area considers the role of Social Security in retirement income and wealth accumulation. It also includes analyses of other sources of retirement income and private savings such as employer-provided pensions, individual assets, earnings from continued employment, etc. Examples of research topics from this area include the impact of matching rates on 401(k) contributions and the distribution of retirement income sources among subgroups of interest.

4. Program Interactions: This area covers interactions between Social Security and other public or private programs. It includes the impact of Social Security reform on public programs like the Disability Insurance, Supplemental Security Income, and Medicare, as well as private pension plans and personal saving. Examples of research topics from this area include analyses of the effect implementation of Personal Accounts on contributions to 401(k) accounts or how changes in the Social Security retirement ages might influence applications to the DI or SSI programs.

5. International Research: This area includes cross-country comparisons of social, demographic, and institutional differences and highlights the lessons to be learned from other countries' social insurance experiences. Examples of topics include cross-national comparisons of social security reform and well being in retirement.

6. Demographic Research: This area includes changes in mortality, fertility, marital status, immigration, health, and labor force participation and their implications for retirement policy.

Each Center will develop a strategy to disseminate its findings on these issues. SSA realizes competent analysis of all priority research areas may be beyond the capacity of any one Center and thus each Center may wish to focus their individual resources and expertise on a subset of the areas listed above. Similarly, a Center may choose to concentrate on a few aspects of the priority research areas more strongly than others. The goal of the Consortium is to find Centers that, as a whole, will address the range of objectives discussed above without compromising the overall quality of research in the separate priority areas.

b. Tasks

Each Center will perform the following tasks:

1. Research, evaluation, and data development. Each Center will be expected to plan, initiate, and maintain a research program of high caliber. It must meet the tests of social science rigor and objectivity. The research will use state-of-the-art research methodology and have practical application to timely retirement policy issues.

The research program should include supporting the work of members of the RRC staff and other affiliated researchers. Joint research between Consortium and SSA researchers is encouraged, as is collaboration with other organizations interested in retirement income policy. SSA will consider and fund up to $250,000 of worthwhile collaborations annually. Federal employees can not receive any funding support for collaborations. Planning and execution of the research program shall always consider the policy implications of research findings. However, it also is appropriate, for example, to engage in activities to make advances in research techniques, where they are needed for or related to primary objectives of the Consortium.

SSA recognizes the value of high quality comprehensive microdata for conducting policy research. The RRC should work to facilitate the development of microdata sources as well as provide researchers with opportunities to use SSA administrative records for research purposes under secure conditions. Such efforts must adhere to clear privacy protection requirements. Examples of data improvement efforts include improving the quality of existing data sources and their documentation; aiding researchers in obtaining administrative extracts for policy relevant research projects; developing sophisticated statistical techniques to mask micro data; and developing new sources of data for retirement policy analysis. In addition, it is SSA's goal to increase the sites at which outside researchers can use administrative data. The Centers are expected to work in conjunction with SSA and other Federal agencies and appropriate organizations to help develop mechanisms that enable researchers, who agree to specific privacy regulations, access to restricted-use data files.

In order to insure the policy relevance, utility, and scope of the Centers' research, evaluation, and data development goals, a group of nationally recognized scholars and practitioners (See Part II, Joint Responsibilities) shall periodically review the Center's activities.

2. Dissemination. Making knowledge and information available to the academic and policy communities as well as the public is another important feature of each Center's responsibilities. The RRC will facilitate the process of translating basic behavioral and social research theories and findings into practical policy alternatives. The Centers will be expected to maintain a dissemination system of quarterly newsletters, research papers, and policy briefs. These products should be accessible to the public via the Internet on a Center maintained Web site. In addition, the Centers will be expected to organize conferences, workshops, lectures, seminars, or other ways of sharing current research activities, and findings. The Consortium will hold an annual conference on issues related to retirement income policy, with organizational responsibility rotating between the Centers. The centers will work with SSA to produce a conference agenda. The conference will be held in Washington, DC. The hosting Center will also have the responsibility for publishing a book of papers delivered at the annual conference.

Applicants are encouraged to propose use of creative methods of disseminating data and information. Applications should show sensitivity to alternative dissemination strategies that may be appropriate for different audiences—such as policymakers, practitioners, the public, advocates, and academics. The research and dissemination will be nonpartisan and of value to all levels of policymaking. SSA reserves the right to review all publications created using Consortium funding.

3. Training and education. The RRC is expected to both train new scholars and educate academics and practitioners on new techniques and research findings on issues of retirement policy. Each Center is expected to develop and expand a diverse corps of scholars/researchers who focus their analytical skills on research and policy issues central to the Consortium's mission.

The Centers are expected to financially support the training and research of young scholars. Funding should be allocated to support graduate students through dissertation fellowships; postdoctoral researchers should receive support through mentored postdoctoral fellowships or a small research grant for junior scholars. Though SSA expects graduate students to work with RRC researchers on funded projects as research assistants, those awards will be included in the research budget, not in the training budget. The Centers will conduct educational seminars for government analysts and policymakers on the Consortium's research findings and methodological advancements.

To assure the quality of its research, dissemination, and training, each Center should establish and maintain a formal tie with a university, including links with appropriate departments within that university. Each Center must have a major presence at a single site; however, alternative arrangements among entities and with individual scholars are encouraged and may be proposed.

4. Reporting. Every three months during the award period, the grantee will produce a quarterly report of progress. The grantee's quarterly progress reports should provide a concise summary of the progress being made toward completion of activities in the annual workplan. Particular attention should be given to achieving any milestones set forth in the workplan, delays in achieving milestones and the impact of delays on the final product. Details regarding the format of quarterly progress reports will be provided in the RRC Terms and Conditions at the time of award.

B. Cooperative Agreement Responsibilities

1. Center Responsibilities: The Centers have the primary and lead responsibility to define objectives and approaches; to plan research, conduct studies, and analyze data; and publish results, interpretations, and conclusions of their work.

Occasionally, SSA will request Quick Turnaround projects from the RRC. Quick Turnaround projects include commenting on SSA research plans, providing critical commentary on research products, composing policy briefs, performing statistical policy analyses, and other activities designed to inform SSA's research, evaluation, and policy analysis function. Funding for these as well as other related activities should be included in the budget narrative at a level of $20,000 (Part III, Section A-8). The agency can raise the ceiling above $20,000 for quick turnaround projects if both need and funds exist.

2. SSA Responsibilities: SSA will be involved with the Consortium in jointly establishing research priorities, planning strategies, and deliverable dates to accomplish the objectives of this announcement. SSA, or its representatives, will provide the following types of support to the Consortium:

a. Consultation and technical assistance in planning, operating and evaluating the Consortium's program activities.

b. Information about SSA programs, policies, and research priorities.

c. Assistance in identifying SSA information and technical assistance resources pertinent to the Centers' success.

d. Review of Consortium activities and collegial feedback to ensure that objectives and award conditions are being met.

e. SSA may suspend or terminate any cooperative agreement in whole or in part at any time before the date of expiration, if the awardee materially fails to comply with the terms and conditions of the cooperative agreement, if technical performance requirements are not met, or if the project is no longer relevant to the Agency. SSA will promptly notify the awardee in writing of the determination and the reasons for suspension or termination together with the effective date.

f. SSA reserves the right to suspend funding for individual projects in process or in previously approved research areas or tasks after awards have been granted.

3. Joint Responsibilities: Jointly with SSA, each Center will select approximately six nationally recognized scholars and practitioners who are unaffiliated with either Center to provide assistance in formulating the Center's research agenda and advice on implementation. Each Center shall select three scholars/practitioners, and SSA will select three scholars/practitioners. Efforts will be made in selecting the scholars/practitioners to assure a broad range of academic disciplines and political viewpoints. Funded under this agreement, the scholars/practitioners must meet once a year at the RRC Annual Conference in Washington, DC. On occasion, both Centers' scholars/practitioners will meet jointly to evaluate Consortium objectives and progress. Further, the Centers may contact the scholars/practitioners throughout the year for suggestions regarding Center activities. The SSA Project Officer will participate in all meetings.

C. Special Requirements

Each Center Director must have a demonstrated capability to organize, administer, and direct the Center. The Director will be responsible for the organization and operation of the Center and for communication with SSA on scientific and operational matters. The Director must also have a minimum time commitment of 25 percent to the Consortium Cooperative Agreement. Racial/ethnic minority individuals, women, and persons with disabilities are encouraged to apply as Directors. A list of previous grants and cooperative agreements held by the Director shall be submitted including the names and contact information of each grant's and cooperative agreement's administrator. In addition to the Director, skilled personnel and institutional resources capable of providing a strong research and evaluation base in the priority areas specified must be available. The institution must show a strong commitment to the Consortium's support. Such commitment may be provided as dedicated space, salary support for investigators or key personnel, dedicated equipment or other financial support for the proposed Center.

Each Center need not be limited by geographical boundaries. A research team may consist of investigators or institutions that are geographically distant, to the extent that the research design requires and accommodates such arrangements. Nothing in this announcement precludes non-academic entities from being affiliated with an applicant.

Part III—Application Preparation and Evaluation Criteria

This part contains information on the preparation of an application for submission under this announcement, the forms necessary for submission, and the evaluation criteria under which the applications will be reviewed. Potential applicants should read this part carefully in conjunction with the information provided in Part II.

In general, SSA seeks organizations with demonstrated capacity for providing quality policy research, training, and working with government policymakers. In the program narrative section of the application, applicants should reflect on how they will be able to fulfill the responsibilities and the requirements described in the announcement. The application should specify in detail how administrative arrangements would be made to minimize start-up and transition delays. Applications that do not address all four major tasks discussed in Center Responsibilities in Part II will not be considered for an award.

It is anticipated that the applicant will have access to additional sources of funding for some projects and arrangements with other organizations and institutions. The applicant (including the Center Director and other key personnel) shall make all current and anticipated related funding arrangements (including contact information for grant/contract/cooperative agreement administrators) explicit in an attachment to the application (Part IV, Section B-12). As part of the annual review process, this information will be updated and reviewed to limit duplicative funding for Center projects.

A. Content and Organization of Technical Application (See “Components of a Complete Application,” Part IV, Section B)

The application must begin with the required application forms and a three-page (double-spaced) overview and summary of the application. Staff resumes should be included in a separate appendix. The core of the application must contain seven sections, presented in the following order:

(1) A brief (not more than 10 pages) background analysis of the key retirement policy issues and trends with a focus on the primary research themes of the proposed Center. The analysis should discuss concisely, but comprehensively, important priority research issues and demonstrate the applicant's grasp of the policy and research significance of recent and future social, economic, political, and demographic trends.

(2) A research and evaluation prospectus for a five-year research agenda, outlining the major research themes to be investigated over the next five years. In particular, the prospectus will describe the activities planned for the priority research areas and other additional research topics proposed by the applicant. The prospectus should discuss the kind of research activities that are needed to both address current Social Security reform issues and anticipate future policy debates. The prospectus should follow from the background analysis section. It may, of course, also discuss research areas and issues that were not mentioned in the analysis if the author(s) of the application feel there have been gaps in past research, or that new factors have begun to affect or soon will begin to affect national retirement policy. If a Center intends to enhance data for retirement research purposes, they should include a discussion of the technical expertise of Center staff and proposed mechanisms to facilitate the sharing of data.

The prospectus shall include detailed descriptions of individual research projects that will be expected in the Center's first year of operation. The special instructions attachment of the application kit provides guidelines for project proposals. It also should be specific about long-term research themes and projects. The lines of research described in the prospectus should be concrete enough that project descriptions in subsequent research plan amendments can be viewed as articulating a research theme discussed in the prospectus. An application that contains an ad hoc categorization of an unstructured set of research projects, rather than a set of projects that strike a coherent theme, will be judged unfavorably.

Note: Once a successful RRC applicant has been selected, SSA will review the RRC research agenda and determine research priorities. This may include the addition, modification, or removal of proposed research projects. After review, each Center will submit to SSA a revised research plan and budget. The research plan will be periodically reviewed and revised as necessary. The application should discuss how the Centers select research projects to propose, including involvement of the outside scholars/practitioners, SSA, and other advisors and participants in the Consortium.

(3) A prospectus for dissemination, including ways to reach a broad audience of researchers, policymakers, and the public. Dissemination plans should detail proposed publications and conferences.

(4) A prospectus for training and education, including proposed training and educational strategies to meet the goals described in Part II, Section A, Task 3.

(5) A staffing and organization proposal for the Center, including an analysis of the types of background needed among staff members, the Center's organizational structure, and linkages with the host institution and other organizations. In this section, the applicant should specify how it will assure an effective approach to research, and where appropriate, identify the necessary links to university departments, other organizations and scholars engaged in research and government policy making.

The applicant should identify the Center Director and key senior research staff. Full resumes of proposed staff members must be included as a separate appendix to the application. The time commitment to the Center and other commitments for each proposed staff member shall be indicated. Note that once the cooperative agreement has been awarded, changes in key staff will require prior approval from SSA. The kinds of administrative and tenure arrangements, if any, the Center proposes to make should also be discussed in this section. In addition, the authors of the application and the role that they will play in the proposed Center must be specified.

This section shall discuss the financial arrangements for supporting research assistants, dissertation fellowships, affiliates, resident scholars, etc. The discussion should include the expected number and type of scholars to be supported and the level of support anticipated.

If the applicant envisions an arrangement of several universities or entities, this section should describe the specifics of the relationships, including leadership, management, and administration. It should pay particular attention to discussing how a focal point for research, training, and scholarship will be maintained given the arrangement proposed.

The application also should discuss the role, selection procedure, and expected contribution of the outside scholars/practitioners (See Part II, Joint Responsibilities).

(6) An organizational experience summary of past work at the institution proposed as the location (or the host) of the Center that relates directly or indirectly to the research priorities of this request. This discussion should include more than a listing of the individual projects completed by the individuals who are included in the application. It should provide a sense of institutional commitment to policy research on issues involving retirement policy. The application must list in an appendix appropriate recent or current research projects, with a brief research summary, contact person references, and address and telephone numbers of references. This section should also discuss the experience of the research staff in working with the government agencies and their demonstrated capacity to provide policy relevant support to these agencies.

(7) A budget narrative that links the research, training, dissemination, and administration to the Center's funding level. The special instructions attachment of the application kit provides information on the distribution and presentation of budget data. Though SSA believes that all three of the stated goals and objectives are important, it is expected that the substantial majority of funds will support Research, Evaluation, and Data Development. Funding should also be allocated to address occasional SSA requested activities (described in Part II, Section B-1). This section should also discuss how the five-year budget supports proposed research, training, dissemination, and administrative activities and should link the first year of funding to a five-year plan. The discussion should include the appropriateness of the level and distribution of funds to the successful completion of the research, training, dissemination, and administrative plans.

The availability, potential availability or expectation of other funds (from the host institution, universities, foundations, other Federal agencies, etc.) and the uses to which they would be put, should be documented in this section. When additional funding is contemplated, applicants shall note whether the funding is being donated by the host institution, is in-hand from another funding source, or will be applied for from another funding source. Formal commitments for the 5 percent, non-federal, minimum budget share should be highlighted in this section.

Seeking additional support from other sources is encouraged. However, funds pertaining to this announcement must not duplicate those received from other funding sources.

B. Review Process and Funding

In addition to any other reviews, a review panel consisting of at least three qualified persons will be formed. Each panelist will objectively review and score the cooperative agreement applications using the evaluation criteria listed in Part III, Section C below. The panel will recommend Centers based on (1) the application scores; (2) the feasibility and adequacy of the project plan and methodology; and (3) how the Centers would jointly meet the objectives of the Consortium. The Agency will consider the panel's recommendations when awarding the cooperative agreements. Although the results from the review panel are the primary factor used in making funding decisions, they are not the sole basis for making awards. The Agency will consider other factors as well (such as duplication of internal and external research effort) when making funding decisions.

All applicants must use the guidelines provided in the SSA application kit for preparing applications requesting funding under this cooperative agreement announcement. These guidelines describe the minimum amount of required project information. However, when completing Part III—Program Narrative, Form SSA-96-BK, please follow the guidelines under Part III, Section A, above. Disregard instructions provided on pages 3, 4, and 5 of the SSA Federal Assistance Application Form SSA-96-BK.

All awardees must adhere to SSA's Privacy and Confidentiality Regulations (20 CFR part 401) as well as provide specific safeguards surrounding client information sharing, paper/computer records/data, and other issues potentially arising from administrative data. SSA reserves the option to discuss applications with other Federal or State staff, specialists, knowledgeable persons, and the general public. Comments from these sources, along with those of the reviewers, will be kept from inappropriate disclosure and may be considered in making an award decision.

C. Selection Process and Evaluation Criteria

The evaluation criteria correspond to the outline for the development of the Program Narrative Statement of the application described in Part III, Section A, above. The application should be prepared in the format indicated by the outline described in The Components of a Complete Application (Part IV, Section B).

Selection of the successful applicants will be based on the technical and financial criteria laid out in this announcement. Reviewers will determine the strengths and weaknesses of each application in terms of the evaluation criteria listed below.

The point value following each criterion heading indicates the maximum numerical relative weight that each section will be given in the review process. An unacceptable rating on any individual criterion may render the application unacceptable. Consequently, applicants should take care that all criteria are fully addressed in the applications. Applications will be reviewed as follows:

(a) Quality of the background analysis. (See Part III, Section A-1) (10 points)

Applications will be judged on whether they provide a thoughtful and coherent discussion of political, economic, social, and demographic issues influencing retirement and solvency. Reviewers will judge applicants' abilities to discuss the past, present, and future role of government programs and polices which affect these trends. Applications should tie the trends and influences discussed to their proposed research agenda.

(b) Quality of the research and evaluation prospectus. (See Part III, Section A-2) (40 points)

Reviewers will judge this section on whether the research agenda is scientifically sound and policy relevant. They also will consider whether the applicant is likely to produce significant contributions to their proposed research areas and how closely the proposed projects fit the objectives for which the applications were solicited.

The application will be judged on the breadth and depth of the applicant's commitment to research and evaluation of the priority research areas described in Part II, Section A. Again, extra weight will be given to quality projects that focus on solvency and reform. The discussion and research proposed must address at least three priority research areas. Applicants will generally receive higher scores for addressing more than three priority research areas. However, a strong proposal focusing on three areas will outscore one that is broad and weakly defined. Applicants with additional insightful research proposals will also score higher. Concise plans for research projects in the near term (one or two years) as well as a five-year agenda are important.

Reviewers will rate applications on the contents of the plans to conduct policy relevant research. In addition, they will be judged on their relevance to Agency activities. Reviewers will also take into consideration SSA priorities and funded or anticipated projects. SSA is particularly interested in research on issues related to Social Security solvency and reform.

(c) Dissemination; training and education. (See Part III, Section A-3, A-4, and A-5) (20 points)

Reviewers will evaluate strategies for dissemination of research and other related information to a broad and disparate set of academic, research, and policy communities as well as to the public. Reviewers will also evaluate whether the appropriate dissemination method is being proposed for targeted audiences of academics and researchers, policymakers, and the public. Proposed strategies that increase dissemination across Centers and other organizations conducting retirement research will also receive higher ratings.

The evaluation of the training and evaluation prospectus will include an assessment of plans to enhance the training of graduate students and young scholars through direct financial support as well as exposure to policy research. In addition, reviewers will evaluate proposed strategies for educating and training policymakers and practitioners on issues of retirement.

(d) Quality of the staffing proposal and proposed administration. (See Part III, Section A-6 and A-7) (20 points)

Reviewers will judge the applicant's Center Director and staff on research experience, demonstrated research skills, administrative skills, public administration experience, and relevant policy making skills. An additional criterion will be the Center's demonstrated potential to act as a conduit between basic and applied behavioral and social science research and policy analysis/evaluation. Both the evidence of past involvement in related research and the specific plans for seeking applied outcomes described in the application shall be considered part of that potential. Reviewers may consider references from grant/cooperative agreement administrators on previous grants and cooperative agreements held by the proposed Center Director or other key personnel. Director and staff time commitments to the Center also will be a factor in evaluation. Whether the applicant can maintain a single location for research, teaching, and scholarship is an important consideration. Reviewers will evaluate the affiliations of proposed key personnel to ensure the required multi-disciplinary nature of the Consortium is being fulfilled.

Applicants will be judged on the nature and extent of the organizational support for research, mentoring scholars, dissemination, and in areas related to the Center's central priorities and this request. Reviewers will evaluate the commitment of the host institution (and the proposed institutional unit that will contain the Center) to assess its ability to support all three of the Center's major activities: (1) Research, evaluation, and data development; (2) dissemination; (3) education and training. Reviewers also will evaluate the applicant's demonstrated capacity to work with a range of government agencies.

(e) Appropriateness of the budget for carrying out the planned staffing and activities. See Part III, (Section A-8) (10 points)

Reviewers will consider whether (1) the budget assures an efficient and effective allocation of funds to achieve the objectives of this solicitation, and (2) the applicant has additional funding from other sources, in particular, the host institution. Applications which show funding from other sources that supplement funds from this cooperative agreement will be given higher marks than those without financial support. Awardees are required to contribute a minimum of 5 percent cost share of total project costs.

Panel Recommendations. Once each application is scored and ranked, the panel will then review the top applicants and recommend Centers that together best address the range of responsibilities described in Part II.

Part IV—Application Forms, Completion and Submission

A. Availability of Application Forms

The application kit, which contains the prescribed forms for funding projects under this announcement, is available at www.ssa.gov/oag/. To request an application kit for those without Internet access, contact: David Allshouse, Grants Management Officer, SSA, Office of Acquisition and Grants, Grants Management Team, 1-E-4 Gwynn Oak Building, 1710 Gwynn Oak Avenue, Baltimore, Maryland 21207-5279. The fax number is (410) 966-9310. The telephone number for David Allshouse is (410) 965-9262 (e-mail: dave.allshouse@ssa.gov).

When requesting an application kit, the applicant should refer to the program announcement number SSA-ORES-03-01 and the date of this announcement to ensure receipt of the proper application kit.

B. Components of a Complete Application

A complete application package consists of one original, signed and dated application, plus at least two copies, which include the following items in order:

1. Cover Sheet;

2. Project Abstract/Summary (not to exceed three pages);

3. Table of Contents;

4. Part I (Face Sheet)—Application for Federal Assistance (Standard Form 424);

5. Part II—Budget Information—Sections A through G (Form SSA-96-BK);

6. Budget Justification for Section B—Budget Categories;

7. Proof of non-profit status, if applicable;

8. Copy of the applicant's approved indirect cost rate agreement, if appropriate;

9. Part III—Project (Program) Narrative. Please disregard instructions provided on pages 3, 4, and 5 of the SSA Federal Assistance Application Form SSA-96-BK. The program narrative should be organized in six sections:

(a) Background Analysis,

(b) Research, Evaluation, and Data Development Prospectus,

(c) Dissemination Prospectus,

(d) Training and Education Prospectus,

(e) Staffing Proposal Including Staff Utilization, Staff Background, and Organizational Experience,

(f) Budget Narrative.

10. Part IV—Assurances;

11. Required Certifications;

12. Any appendices/attachments; and

13. Supplement to Section II—Key Personnel.

Staple each copy of the application securely (front and back if necessary) in the upper left corner. Please DO NOT use or include separate covers, binders, clips, tabs, plastic inserts, books, brochures, videos, or any other items that cannot be readily photocopied.

C. Application Submission

These guidelines should be followed in submitting applications:

—All applications requesting SSA funds for cooperative agreement projects under this announcement must be submitted on the standard forms provided in the application kit. NOTE: Facsimile copies will not be accepted.

—The application shall be executed by an individual authorized to act for the applicant organization and to assume for the applicant organization the obligations imposed by the terms and conditions of the cooperative agreement award.

—Number of copies: The package should contain one original, signed and dated application plus at least two copies. Ten additional copies are optional and will expedite processing of the application. A disk copy of the Abstract and the Program Narrative (in MSWord format) would also be helpful to SSA.

—Length: Applications should be brief and concise as possible, but assure successful communication of the applicant's proposal to the reviewers. The Project Narrative portion of the application (Part III) may not exceed 150 double spaced pages (excluding the resume and outside funding appendices), typewritten on one side using standard (8½″ × 11″) size paper and 12 point font. Attachments that support the project narrative count within the 150 page limit. Attachments not applicable to the project narrative do not count toward this page limit.

—Attachments/Appendices, when included should be used only to provide supporting documentation. Brochures, videos, etc., should not be included because they are not easily reproduced and are therefore inaccessible to reviewers.

—In item 11 of the Face Sheet (SF 424), the applicant must clearly indicate the application submitted is in response to this announcement (SSA-ORES-03-01). The applicant also is encouraged to select a SHORT descriptive project title.

—On all applications developed by more than one organization, the application must identify only one institution as the lead organization and the official applicant. The other(s) can be included as subgrantees or subcontractors.

Applications must be mailed or hand delivered to: Grants Management Team, Office of Acquisition and Grants, DCFAM, Social Security Administration, Attention: SSA-ORES-03-01, 1-E-4 Gwynn Oak Building, 1710 Gwynn Oak Avenue, Baltimore, MD 21207-5279.

Hand delivered applications are accepted between the hours of 8 a.m. and 5 p.m., Monday through Friday. An application will be considered as meeting the deadline if it is either:

1. Received at the above address on or before the deadline date; or

2. Mailed through the U.S. Postal Service or sent by commercial carrier on or before the deadline date and received in time to be considered during the competitive review and evaluation process.

Packages must be postmarked by July 15, 2003. Applicants are cautioned to request a legibly dated U.S. Postal Service postmark or to obtain a legibly dated receipt from a commercial carrier as evidence of timely mailing.

Applications that do not meet the above criteria will be considered late applications. SSA will not waive or extend the deadline for any applicant unless the deadline is waived or extended for all applicants. SSA will notify each late applicant that its application will not be considered.

D. Notification

SSA will use Form SSA-3966 PC (a double postcard) to acknowledge receipt of applications. Please complete the top and bottom parts of the double postcard that is included in the application kit and, on the franked sided of the postcard, enter the name and address of the person to whom the acknowledgment is to be sent. Include Form SSA-3966 PC with the original copy of the application forms. If you do not receive acknowledgment of your application within eight weeks after the deadline date, please notify SSA.

Paperwork Reduction Act

The information is collected using form SSA-96-BK, Instructions for Completion of Federal Assistance Application has already been approved under Office of Management and Budget (OMB) control number 0960-0184. This is important in that persons are not required to respond to an information collection unless it displays a valid OMB control number.

In addition, the collection of information from ten or more members of the public by cooperative agreement awardees during research and study activities will require clearance from OMB if the information is in response to identical questions.

Executive Order 12372 and 12416—Intergovernmental Review of Federal Programs

This program is not covered by the requirements of Executive Order 12372, as amended by Executive Order 12416, relating to the Federal policy for consulting with State and local elected officials on proposed Federal financial assistance.

(Catalog of Federal Domestic Assistance: Program No. 96.007, Social Security—Research and Demonstration)
Dated: April 9, 2003.
Jo Anne B. Barnhart,
Commissioner of Social Security.

[FR Doc. 03-10251 Filed 4-24-03; 8:45 am]

BILLING CODE 4191-02-P